DEPARTMENT OF ENERGY

Federal Energy Regulatory Commission

Combined Notice of Filings #1

August 2, 2006.

Take notice that the Commission received the following electric rate filings:

Docket Numbers: ER03-983-002.

Applicants: Fox Energy Company LLC.

Description: Fox Energy Company LLC submits an updated market power analysis and proposed amendments to its market-based rate schedule.

Filed Date: 07/28/2006.

Accession Number: 20060801-0102.

Comment Date: 5 p.m. Eastern Time on Friday, August 18, 2006.

Docket Numbers: ER06-1045-001.

Applicants: California Independent System Operator Corporation.

Description: California Independent System Operator Corp submits a compliance filing pursuant to the Commission 7/13/06 letter Order.

Filed Date: 07/28/2006.

Accession Number: 20060801-0101.

Comment Date: 5 p.m. Eastern Time on Friday, August 18, 2006.

Docket Numbers: ER06-1138-000.

Applicants: Fox Energy Company LLC.

Description: Fox Energy Company LLC submits a notice of withdrawal of its filing made on 6/15/06.

Filed Date: 07/28/2006.

Accession Number: 20060731-0082.

Comment Date: 5 p.m. Eastern Time on Friday, August 18, 2006.

Docket Numbers: ER06-1221-001.

Applicants: Parkview AMC Energy, LLC.

Description: Parkview AMC Energy LLC submits an application for Order Accepting Market Based Rate Tariff under ER06-1221.

Filed Date: 07/28/2006.

Accession Number: 20060801-0108.

Comment Date: 5 p.m. Eastern Time on Friday, August 18, 2006.

Docket Numbers: ER06-1293-000.

Applicants: Southern Company Services Inc.

Description: Southern Company Services, Inc. submits a roll-over service agreement for long-term firm point-to-point transmission service, Electric Tariff, Fourth Revised Volume No. 5.

Filed Date: 07/28/2006.

Accession Number: 20060731-0178.

Comment Date: 5 p.m. Eastern Time on Friday, August 18, 2006.

Docket Numbers: ER06-1294-000.

Applicants: Central Vermont Public Service Corporation.

Description: Central Vermont Public Service Corp submits an executed non-conforming point-to-point service agreement under the ISO New England Inc Tariff, Schedule 20, for service to TransAlta Energy Marketing Inc.

Filed Date: 07/28/2006.

Accession Number: 20060731-0183.

Comment Date: 5 p.m. Eastern Time on Friday, August 18, 2006.

Docket Numbers: ER06-1295-000.

Applicants: Boston Edison Company.

Description: Boston Edison Co submits an executed wholesale distribution service agreement for service to its affiliate, MATEP LLC, with an effective date of 10/1/06 under ER06-1295.

Filed Date: 07/28/2006.

Accession Number: 20060731-0182.

Comment Date: 5 p.m. Eastern Time on Friday, August 18, 2006.

Docket Numbers: ER06-1296-000.

Applicants: PJM Interconnection, L.L.C.

Description: PJM Interconnection, LLC submits an executed interconnection service agreement with WM Renewable Energy, LLC and PECO Energy Company.

Filed Date: 07/28/2006.

Accession Number: 20060731-0180.

Comment Date: 5 p.m. Eastern Time on Friday, August 18, 2006.

Docket Numbers: ER06-1297-000.

Applicants: Fox Energy Company LLC.

Description: Fox Energy Co, LLC submits a request for FERC's approval to amend Rate Schedule 2 that it is acquiring from Calpine Fox.

Filed Date: 07/28/2006.

Accession Number: 20060731-0177.

Comment Date: 5 p.m. Eastern Time on Friday, August 18, 2006.

Docket Numbers: ER06-1298-000.

Applicants: American Transmission Company LLC.

Description: American Transmission Co, LLC submits an executed Distribution-Transmission Interconnection Agreement with Oconomowoc Utilities dated 6/29/06.

Filed Date: 07/28/2006.

Accession Number: 20060731-0161.

Comment Date: 5 p.m. Eastern Time on Friday, August 18, 2006.

Docket Numbers: ER06-1299-000.

Applicants: American Transmission Company LLC.

Description: American Transmission Co LLC submits an executed Distribution-Transmission Interconnection Agreement with Waunakee Utilities dated 5/30/06.

Filed Date: 07/28/2006.

Accession Number: 20060731-0174.

Comment Date: 5 p.m. Eastern Time on Friday, August 18, 2006.

Docket Numbers: ER06-1300-000.

Applicants: American Transmission Company LLC.

Description: American Transmission Co, LLC submits an executed Distribution-Transmission Interconnection Agreement with Hustisford Utilities dated 6/29/06.

Filed Date: 07/28/2006.

Accession Number: 20060731-0176.

Comment Date: 5 p.m. Eastern Time on Friday, August 18, 2006.

Docket Numbers: ER06-1301-000.

Applicants: American Transmission Company LLC.

Description: American Transmission Co, LLC submits an executed Distribution-Transmission Interconnection Agreement with Waupun Utilities dated 5/15/06.

Filed Date: 07/28/2006.

Accession Number: 20060731-0159.

Comment Date: 5 pm Eastern Time on Friday, August 18, 2006.

Docket Numbers: ER06-1302-000.

Applicants: American Transmission Company LLC.

Description: American Transmission Co LLC submits an executed Distribution-Transmission Interconnection Agreement with Boscobel Utilities dated 5/9/06.

Filed Date: 07/28/2006.

Accession Number: 20060731-0185.

Comment Date: 5 pm Eastern Time on Friday, August 18, 2006.

Docket Numbers: ER06-1303-000.

Applicants: American Transmission Company LLC.

Description: American Transmission Co, LLC submits an executed Distribution-Transmission Interconnection Agreement with Jefferson Utilities dated 6/29/06.

Filed Date: 07/28/2006.

Accession Number: 20060731-0160.

Comment Date: 5 pm Eastern Time on Friday, August 18, 2006.

Docket Numbers: ER06-1304-000.

Applicants: American Transmission Company LLC.

Description: American Transmission Co LLC submits an executed Distribution—Transmission Interconnection Agreement with Cedarburg Light & Water Utility dated 5/26/06.

Filed Date: 07/28/2006.

Accession Number: 20060801-0005.

Comment Date: 5 pm Eastern Time on Friday, August 18, 2006.

Docket Numbers: ER06-1305-000.

Applicants: American Transmission Company LLC.

Description: American Transmission Company LLC submits an executed Distribution-Transmission Interconnection Agreement with Columbus Water & Light dated 6/29/06.

Filed Date: 07/28/2006.

Accession Number: 20060801-0007.

Comment Date: 5 pm Eastern Time on Friday, August 18, 2006.

Docket Numbers: ER06-1308-000.

Applicants: Midwest Independent Transmission System Operator, Inc.

Description: Midwest Independent Transmission System Operator Inc submits proposed Schedules 10-C, 16-A, and 17-A & certain conforming revisions to the its OAT&EM Tariff.

Filed Date: 07/31/2006.

Accession Number: 20060801-0097.

Comment Date: 5 pm Eastern Time on Monday, August 21, 2006.

Docket Numbers: ER06-1309-000.

Applicants: Southwest Power Pool, Inc.

Description: Southwest Power Pool Inc submits an executed Agreement for the Provision of Transmission Service to Missouri Bundled Retail Load with the Empire District Electric Co.

Filed Date: 07/31/2006.

Accession Number: 20060801-0096.

Comment Date: 5 pm Eastern Time on Monday, August 21, 2006.

Docket Numbers: ER06-1310-000.

Applicants: PJM Interconnection, LLC.

Description: PJM Interconnection LLC submits an agreement for network integration transmission service under its OATT with American Electric Power Service Corp as agent for Appalachian Power Company, et al.

Filed Date: 07/31/2006.

Accession Number: 20060801-0095.

Comment Date: 5 pm Eastern Time on Monday, August 21, 2006.

Docket Numbers: ER06-1311-000.

Applicants: ISO New England Inc.

Description: ISO New England, Inc submits its non-conforming Market Participant Service Agreements with Freedom Partners, LLC et al.

Filed Date: 07/31/2006.

Accession Number: 20060801-0094.

Comment Date: 5 pm Eastern Time on Monday, August 21, 2006.

Docket Numbers: ER06-1312-000.

Applicants: Empire District Electric Co.

Description: Empire District Electric Co submits the Third Revised Sheet 1 of its market-based rate tariff, revised to authorize the sell of imbalance energy into Southwest Power Pool Inc.'s energy imbalance market.

Filed Date: 07/31/2006.

Accession Number: 20060801-0107.

Comment Date: 5 pm Eastern Time on Monday, August 21, 2006.

Docket Numbers: ER06-1313-000.

Applicants: Westar Energy Inc.; Kansas Gas and Electric Company.

Description: Westar Energy Inc and Kansas Gas and Elec Co submit Third Revised Sheet 1 of its market based rate tariff, revised to authorized to sell imbalance energy into the Southwest Power Pool Inc energy imbalance market.

Filed Date: 07/31/2006.

Accession Number: 20060801-0106.

Comment Date: 5 pm Eastern Time on Monday, August 21, 2006.

Docket Numbers: ER06-1314-000.

Applicants: E.ON U.S., LLC.

Description: E.ON U.S. LLC submits Amendment 23 to an Interconnection Agreement with East Kentucky Power Cooperative.

Filed Date: 07/31/2006.

Accession Number: 20060801-0105.

Comment Date: 5 pm Eastern Time on Monday, August 21, 2006.

Docket Numbers: ER06-1315-000.

Applicants: Midwest Independent Transmission System Operator, Inc.

Description: Midwest Independent Transmission System Operator Inc submits proposed revisions to Attachment X—Standard Large Generator Interconnection Procedures et al of its OAT&EM Tariff.

Filed Date: 07/31/2006.

Accession Number: 20060801-0104.

Comment Date: 5 pm Eastern Time on Monday, August 21, 2006.

Docket Numbers: ER06-1316-000.

Applicants: PJM Interconnection, L.L.C.

Description: PJM Interconnection, LLC submits an agreement for Network Integration Transmission Service under its OATT.

Filed Date: 07/31/2006.

Accession Number: 20060801-0103.

Comment Date: 5 pm Eastern Time on Monday, August 21, 2006.

Docket Numbers: ER06-1317-000.

Applicants: PJM Interconnection, LLC.

Description: PJM Interconnection LLC submits a Network Integration Transmission Service Agreement with Wabash Valley Power Association, Inc.

Filed Date: 07/31/2006.

Accession Number: 20060801-0100.

Comment Date: 5 pm Eastern Time on Monday, August 21, 2006.

Docket Numbers: ER06-1318-000.

Applicants: Southwest Power Pool, Inc.

Description: Southwest Power Pool Inc submits an executed Agreement for the Provision of Transmission Service to Missouri Bundled Retailed Load with Kansas City Power & Light Co et al.

Filed Date: 07/31/2006.

Accession Number: 20060801-0109.

Comment Date: 5 pm Eastern Time on Monday, August 21, 2006.

Take notice that the Commission received the following electric securities filings

Docket Numbers: ES06-58-000.

Applicants: MDU Resources Group, Inc.

Description: MDU Resources, Group Inc submits an application for authority to issue an additional 400,000 shares of Company Common Stock in connection with its Non-Employee Director Stock Compensation Plan under ES06-58.

Filed Date: 07/28/2006.

Accession Number: 20060801-0098.

Comment Date: 5 pm Eastern Time on Friday, August 18, 2006.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC There is an eSubscription link on the Web site that enables subscribers to receive e-mail notification when a document is added to a subscribed docket(s). For assistance with any FERC Online service, please e-mail FERCOnlineSupport@ferc.gov. or call (866) 208-3676 (toll free). For TTY, call (202) 502-8659.

Magalie R. Salas,
Secretary.

[FR Doc. E6-13041 Filed 8-9-06; 8:45 am]

BILLING CODE 6717-01-P